FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 19, 2011.

A. Federal Reserve Bank of Richmond (Adam M. Drimer, Assistant Vice President) 701 East Byrd Street, Richmond, Virginia 23261-4528:

1. Priam Capital Fund I, LP, Priam Capital Associates, LLC, and Howard Feinglass, all in Wilmington, Delaware; to acquire voting shares of First Mariner Bancorp, and thereby indirectly acquire voting shares of First Mariner Bank, both in Baltimore, Maryland.

B. Federal Reserve Bank of St. Louis (Glenda Wilson, Community Affairs Officer) P.O. Box 442, St. Louis, Missouri 63166-2034:

1. Teresa A. Grindstaff and Greg E. Allen, individually and as trustees of the William H. Cooper General Trust, and the William H. Cooper Marital Trust, all in Farmington, Missouri; to acquire shares of First State Bancshares, Inc., and thereby indirectly acquire voting shares of First State Community Bank, both in Farmington, Missouri.

Board of Governors of the Federal Reserve System, June 28, 2011.
Robert deV. Frierson,
Deputy Secretary of the Board.

[FR Doc. 2011-16601 Filed 6-30-11; 8:45 am]

BILLING CODE 6210-01-P